DEPARTMENT OF STATE

[Public Notice: 10514]

Certification Related to Foreign Military Financing for Colombia Under Section 7045(B)(6) of the Department of State, Foreign Operations, and Related Programs Appropriations Act, 2018

Pursuant to the authority vested in the Secretary of State, including under section 7045(b)(6) of the Department of State, Foreign Operations, and Related Programs Appropriations Act, 2018 (Div. K, Pub. L. 115-141) and Senate Report 115-152, I hereby certify and report that:

(1) the Peace Tribunal and other judicial bodies within the special jurisdiction for peace are independent and have authority to document “truth declarations” from perpetrators of gross violations of human rights and to sentence such perpetrators to meaningful sanctions, including guarantee of non-repetition and deprivation of liberty;

(2) the Government of Colombia is continuing to dismantle illegal armed groups, taking effective steps to protect the rights of human rights defenders, journalists, trade unionists, and other civil society activists, and protecting the rights and territory of indigenous and Afro-Colombian communities; and

(3) military personnel responsible for ordering, committing, or covering up cases of false positives are being prosecuted and appropriately punished, including removal from positions of command.

This Certification shall be published in the Federal Register and, along with the accompanying Report and Memorandum of Justification, shall be transmitted to the appropriate committees of Congress.

Dated: August 11, 2018.
Michael R. Pompeo,
Secretary of State.

[FR Doc. 2018-18086 Filed 8-21-18; 8:45 am]

BILLING CODE 4710-29-P